NATIONAL SCIENCE FOUNDATION

Sunshine Act Meeting

AGENCY HOLDING MEETING: National Science Foundation, National Science Board, Executive Committee.

DATE AND TIME: January 24, 2002, 1 p.m.-1:30 p.m., Closed Session; January 24, 2002, 1:30 p.m.-2 p.m., Open Session.

PLACE: The National Science Foundation, 4201 Wilson Boulevard, Room 1295, Arlington, VA 22230.

STATUS: Part of this meeting will be open to the public, part of this meeting will be closed to the public.

MATTERS TO BE CONSIDERED:

Thursday, January 24, 2002

Closed Session (1 p.m. to 1:30 p.m)

—Awards and Agreements

Open Session (1:30 p.m. to 2 p.m.)

—Director's Items

—Chairman's Items

—Program Approval: Math and Science Partnerships

Marta Cehelsky,
Executive Officer.

[FR Doc. 02-1185 Filed 1-11-02; 4:48 pm]

BILLING CODE 7555-01-M